DEPARTMENT OF STATE

[Public Notice 9493]

Notice of U.S. Administration Role Concerning U.S. Sector Members at the International Telecommunication Union (ITU)

SUMMARY: The Department of State informs all existing and prospective U.S. Sector Members of the ITU that the Department of State serves as the ITU membership approval authority for U.S. entities and reminds U.S. Sector Members and prospective members of their responsibilities for paying their membership fees and keeping their accounts current.

FOR FURTHER INFORMATION CONTACT: Please contact Franz Zichy at 202-647-5778, zichyfj@state.gov and Lynnette Jackson at 202-647-8344, Jacksonln@state.gov.

SUPPLEMENTARY INFORMATION: The ITU was founded in 1865 as the International Telegraph Union. Its current name was adopted in 1934 and it became a specialized agency of the United Nations (UN), now responsible for information and communication technologies (ICT's) in 1947. Its purpose is to coordinate international telecommunication issues. ITU currently has 193 member states and more than 700 Sector Members, including many U.S. businesses and academic institutions.

The Office of International Communications and Information Policy (CIP), Multilateral Affairs (MA) in the Bureau of Economic and Business (EB) Affairs, U.S. Department of State, approves U.S. Sector Memberships for the ITU, and partners with the ITU in managing U.S. Sector Membership arrears accounts. ITU Sector Members represent a cross-section of the global ICT sector, from the world's largest manufacturers and carriers to small, innovative players working with new and developing technologies, and academia. Founded on the principle of international cooperation between governments (Member States) and the private sector (Sector Members, Associates and Academia), the ITU is a global forum through which parties can work towards consensus on a wide range of issues affecting the ICT industry's future direction.

The ITU has three sectors—ITU Radiocommunication Sector (ITU-R), ITU Telecommunication Standardization Sector (ITU-T), and ITU Development Sector (ITU-D). It also has two types of sector memberships—one for corporate entities and regional or international organizations and one for academia, university and research establishments. Sector members from corporate entities and regional or international organizations may join as a member of an entire sector (e.g., the ITU-R) or as an associate of a particular Study Group within a sector. Corporate entities with the interest of operating as Recognized Operating Agencies (ROA) are required to apply for such status and may only identify as an ROA if so approved by the Federal Communications Commission.

Membership fees are paid in contributory units, and Member States, Sector Members, Associates, and Academia may choose their annual contributory amounts according to the quantities listed below. Full Sector Members are entitled to participate in all of the Study Groups, while organizations with specific focus can participate in the work of a single study group as an Associate. Academia, universities and their associated research establishments benefit from preferential rates, as do Sector Members from some developing countries.

Sector membership is automatically renewed unless the member notifies the ITU that it is renouncing its membership. Since renunciation does not take effect until six months following official notification, sector members will owe fees up until the official date of renunciation.

Minimum Annual Contributory Amounts

Standardization/Radiocommunication Sectors

Sector Members: 31,800 CHF per Sector

Associates: 10,600 CHF

Academia and research establishments: 3,975 CHF

Development Sector

Members: 7,950 CHF

Associates: 3,975 CHF

Academia and research establishments: 3,975 CHF

Additional information on types of memberships and details on membership participation can be accessed on the ITU Web site as follows: https://www.itu.int/en/join/Pages/default.aspx.

Dated: March 11, 2016.
Julie N. Zoller,
Senior Deputy Coordinator, International Communications and Information Policy, U.S. State Department.

[FR Doc. 2016-06561 Filed 3-22-16; 8:45 am]

BILLING CODE 4710-AE-P